DEPARTMENT OF COMMERCE

National Oceanic and Atmospheric Administration

[RTID 0648-XE930]

Takes of Marine Mammals Incidental to Specified Activities; Taking Marine Mammals Incidental to the City of Ketchikan's Berth III Mooring Dolphins Project in Ketchikan, Alaska

AGENCY: National Marine Fisheries Service (NMFS), National Oceanic and Atmospheric Administration (NOAA), Commerce.

ACTION: Notice; issuance of incidental harassment authorization.

SUMMARY: In accordance with regulations implementing the Marine Mammal Protection Act (MMPA) as amended, notification is hereby given that NMFS has issued an incidental harassment authorization (IHA) to the City of Ketchikan (COK) for authorization to take marine mammals incidental to the Berth III Mooring Dolphins Project in the Port of Ketchikan in the Tongass Narrows, Alaska.

DATES: This IHA is effective for one year from the date of effectiveness.

ADDRESSES: Electronic copies of the application and supporting documents, as well as a list of the references cited in this document, can be obtained online at: https://www.fisheries.noaa.gov/action/incidental-take-authorization-city-ketchikans-berth-iii-mooring-dolphins-project-port. For any issues accessing these documents, please contact the person listed below.

FOR FURTHER INFORMATION CONTACT: Krista Graham, Office of Protected Resources, NMFS, (301) 427-8401.

SUPPLEMENTARY INFORMATION:

MMPA Background and Determinations

The MMPA prohibits the “take” of marine mammals, with certain exceptions. Among the exceptions is section 101(a)(5)(D) of the MMPA (16 U.S.C. 1361 et seq.), which directs the Secretary of Commerce (as delegated to NMFS) to allow, upon request, the incidental, but not intentional, taking by harassment of small numbers of marine mammals by U.S. citizens who engage in a specified activity (other than commercial fishing) within a specified geographical region if certain findings are made, and the public has an opportunity to comment on the proposed IHA.

Specifically, NMFS will issue an IHA if it determines that the taking will have a negligible impact on the species or stock(s) and will not have an unmitigable adverse impact on the availability of the species or stock(s) for taking for subsistence uses (where applicable). Further, NMFS must prescribe the permissible methods of taking and other “means of effecting the least [practicable] adverse impact” on the affected species or stocks and their habitat, paying particular attention to rookeries, mating grounds, and areas of similar significance, and on the availability of such species or stocks for taking for certain subsistence uses (referred to here as “mitigation”). NMFS must also prescribe requirements for monitoring and reporting of such takings. The definitions of key terms, such as “take,” “harassment,” and “negligible impact,” can be found in the MMPA and the NMFS' implementing regulations (see 16 U.S.C. 1362; 50 CFR 216.103).

On April 16, 2025, a notice of NMFS' proposal to issue an IHA to the COK for take of marine mammals incidental to the Berth III Mooring Dolphins Project in the Port of Ketchikan in the Tongass Narrows, Alaska, was published in the Federal Register (90 FR 15957). In that notice, NMFS provided the estimated numbers, type, and methods of incidental take proposed for each species or stock, as well as the mitigation, monitoring, and reporting measures that would be required should the IHA be issued. The Federal Register notice also included analysis to support NMFS' preliminary conclusions and determinations that the IHA, if issued, would satisfy the requirements of section 101(a)(5)(D) of the MMPA for issuance of the IHA. The Federal Register notice included web links to a draft IHA for review, as well as other supporting documents.

No substantive comments were received during the public comment period. Except for the relatively minor changes described below, and upon which we provide a comparison table that includes the original proposed authorized take compared to the updated final authorized take (table 1), an updated authorized take by Level A and Level B harassment and as a percentage of stock abundance table (table 2), and a table with the updated shutdown and monitoring zones (table 3), there are no changes to the specified activity, the species taken, the type or methods of take, or the mitigation, monitoring, or reporting measures in the proposed IHA notice. No new information has become available that would substantively change any of the preliminary analyses, conclusions, or determinations in the proposed IHA. Therefore, the preliminary analyses, conclusions, and determinations included in the proposed IHA are considered final.

Changes From the Proposed IHA to the Final IHA

Upon close inspection of the proposed Federal Register notice, we identified either relatively minor numerical errors that were carried over from the application (e.g., numbers were transposed in a table) or systematic calculation errors. Numerical errors carried over from the application included the following:

(a) In table 5 (Proxy Sound Source Levels for Pile Sizes and Driving Methods) of the proposed IHA (90 FR 15957, April 16, 2025), the cumulative sound source level at 10 meters (m) for impact installation of 48-inch piles (1.22 m) used 179 decibels (dB) sound exposure level (SEL) (referenced to 1 micropascal squared per second (re 1µPa²sec) instead of 180 dB SEL re 1µPa²sec. Additionally, the sound source level at 10 m for the installation of down-the-hole (DTH) anchors (12-inch (0.30 m)) was specified as 146 dB re 1µPa peak and 172 dB re 1µPa²sec SEL, instead of the inverse (172 dB re 1µPa peak and 146 dB re 1µPa²sec SEL).

(b) In table 6 (User Spreadsheet Input Parameters Used for Calculating Level A Harassment Isopleths) of the proposed IHA (90 FR 15957, April 16, 2025), a strike per second or strike rate of 5.8 was used instead of 8.5 for DTH sockets (30-inch (0.76 m), 36-inch (0.91 m), and 48-inch). For DTH anchors (12-inch), a strike rate of 5.8 was used instead of 19.2. Additionally, a weighting factor adjustment of 2.5 kilohertz (kHz) was used instead of 2 kHz for DTH anchors (12-inch).

(c) Once we corrected the numerical errors described above, the calculated Level A harassment isopleths for DTH sockets (30-, 36-, and 48-inch) and DTH anchors (12-inch) (table 7 of the proposed IHA (90 FR 15957, April 16, 2025)) were adjusted slightly upwards, i.e., the Level A harassment zones (measured in meters) were marginally expanded outward.

(d) Carrying these revised isopleth calculations forward included updating the calculated ratio of the average Level A isopleth to the average Level B isopleth for each hearing group. For example, the ratio for low-frequency cetaceans increased from 0.100 square kilometers (km²) to 0.124 km². These slightly enlarged isopleth ratios for each functional hearing group resulted in slight upward adjustments to the calculated Level A takes for some species, such as the humpback whale (Hawai'i stock), harbor porpoise, Dall's porpoise, Steller sea lion, and harbor seal (see table 1 below).

(e) In addition to correcting minor numerical errors carried over from the application, we identified an inadvertent systematic error in our calculations. For instance, as discussed in the proposed IHA (90 FR 15957, April 16, 2025), due to the size and frequency of some species, we subjectively adjusted a single Level A take downward to zero. As such, we should have added a single take to the total Level B take; thereby, the total proposed take would have remained the same (e.g., fin whale, gray whale, killer whale, California sea lion, and northern fur seal). This inadvertent error also applied when we subjectively adjusted a Level A take upwards. For example, as discussed in the proposed IHA (90 FR 15957, April 16, 2025), the calculated take for Pacific white-side dolphins was originally 2 Level A takes; however, we subjectively increased this to 20 Level A takes (i.e., added 18 Level A takes) to match the average group size of the species. Therefore, we should have subtracted the same amount from the Level B takes (i.e., subtracted 18 Level B takes). This method would have kept the total proposed take of Pacific white-sided dolphins at 475. We have corrected these errors and provided the updated authorized take (Level A, Level B, and total proposed take) in Table 1, and updated authorized take and “percent of stock” calculations in table 2.

(f) Finally, based on the corrected Level A isopleths, we updated the shutdown zones for the installation of DTH sockets (30-, 36-, and 48-inch) and DTH anchors (12-inch) (see table 3).

Table 1—Changes to Estimated Take by Level A and Level B Harassment between Proposed and Final IHA
Common name | Stock | Proposed take: Level A | Proposed take: Level B | Proposed take: Total proposed take | Final authorized take: Level A | Final authorized take: Level B | Final authorized take: Total take
Humpback whale¹ ² | Hawai'i | 10 | 83 | 93 | 12 | 81 | 93
Fin whale ³ | Northeast Pacific | 0 | 3 | 3 | 0 | 4 | 4
Gray whale ³ | Eastern North Pacific | 0 | 5 | 5 | 0 | 6 | 6
Killer whale ³ | Eastern North Pacific Alaska Resident | 0 | 55 | 55 | 0 | 56 | 56
| Eastern North Pacific Northern Resident |
| West Coast Transient |
Pacific white-sided dolphin ³ | North Pacific | 20 | 473 | 493 | 20 | 455 | 475
Harbor porpoise ² | Southern Southeast Alaska Inland Waters | 10 | 46 | 56 | 11 | 45 | 56
Dall's porpoise ² | Alaska | 15 | 69 | 84 | 16 | 67 | 83
Steller sea lion ² | Eastern U.S. | 30 | 1,780 | 1,810 | 44 | 1,766 | 1,810
California sea lion ³ | U.S. | 0 | 2 | 2 | 0 | 3 | 3
Northern fur seal ³ | Eastern Pacific | 0 | 1 | 1 | 0 | 2 | 2
Harbor seal ² | Clarence Strait | 129 | 1,365 | 1,494 | 145 | 1,349 | 1,494
¹ For MMPA take apportionment and Endangered Species Act (ESA) section 7 consultation purposes, 2.4 percent of animals are designated to the Mexico-North Pacific stock (Mexico distinct population segment (DPS)), and the remaining animals are designated to the Hawai'i stock (Hawai'i DPS) (Wade 2021).
² The revised average Level A to Level B isopleth ratios resulted in slight upward adjustments to Level A take (see paragraph (d) above for more information).
³ Level A take numbers were subjectively adjusted (see paragraph (e) above for more information).

Table 2—Updated Authorized Take by Level A and Level B Harassment and as a Percentage of Stock Abundance
Common name | Stock | Stock abundance ¹ | Authorized take: Level A | Authorized take: Level B | Authorized take: Total take | Percent of stock
| Hawai'i | 11,278 | 12 | 81 | 93 | 0.8
Humpback whale ² | Mexico-North Pacific | ³ N/A | 1 | 2 | 3 | N/A
Minke whale | Alaska | N/A | 0 | 1 | 1 | N/A
Fin whale | Northeast Pacific | ⁴ UND | 0 | 4 | 4 | N/A
Gray whale | Eastern North Pacific | 26,960 | 0 | 6 | 6 | 0.02
Killer whale | Eastern North Pacific Alaska Resident | 1,920 | 0 | 56 | 56 | 2.9
| Eastern North Pacific Northern Resident | 302 |  |  |  | 18.5
| West Coast Transient | 349 |  |  |  | 16.0
Pacific white-sided dolphin | North Pacific | 26,880 | 20 | 455 | 475 | 1.8
Harbor porpoise | Southern Southeast Alaska Inland Waters | 890 | 11 | 45 | 56 | 6.3
Dall's porpoise | Alaska | UND | 16 | 67 | 83 | N/A
Steller sea lion | Eastern U.S | 36,308 | 44 | 1,766 | 1,810 | 5.0
California sea lion | U.S | 257,606 | 0 | 3 | 3 | 0.0012
Northern fur seal | Eastern Pacific | 612,765 | 0 | 2 | 2 | 0.0003
Harbor seal | Clarence Strait | 27,659 | 145 | 1,349 | 1,494 | 5.4
Northern elephant seal | California | 187,386 | 3 | 21 | 24 | 0.01
¹ Stock size is Nbest (i.e., the statistical estimate of the overall population size) according to the NMFS 2024 Draft Stock Assessment Reports (SAR).
² For MMPA take apportionment and ESA section 7 consultation purposes, 2.4 percent of animals are designated to the Mexico-North Pacific stock, and the remaining animals are designated to the Hawai'i stock (Wade 2021).
³ N/A indicates data are not available or unknown.
⁴ UND (undetermined) indicates data are unavailable for calculating stock abundance data (see the SAR for details).

Table 3—Updated Shutdown and Monitoring Zones for Each Driving/Removal Activity
Pile size | Low frequency cetacean shutdown area (m) | High frequency cetacean shutdown area (m) | Very high frequency cetacean shutdown area (m) | Phocid pinniped shutdown area (m) | Otariid pinniped shutdown area (m) | Level B Harassment zone (m)
Vibratory Pile Driving/Removal
30-, 36-inch piles up to 8 hrs | 80 | 40 | 70 | 110 | 40 | 11,660
30-, 36-inch piles up to 14 hrs | 120 | 50 | 100 | 150 | 50
48-inch piles up to 8 hrs | 180 | 70 | 140 | 230 | 80 | ² 12,500
48-inch piles up to 14 hrs | 250 | 100 | 210 | ¹ 300 | 110
Impact Pile Driving
30-inch piles 1-500 strikes (10 min) | 250 | 40 | ¹ 300 | 230 | 90 | 1,000
30-inch piles 501-1,000 strikes (20 min) | 400 | 60 | ¹ 300 | ¹ 300 | 140
30-inch piles 1,001-1,500 strikes (30 min) | 520 | 70 | ¹ 300 | ¹ 300 | 180
36-inch piles 1-500 strikes (10 min) | 630 | 80 | ¹ 300 | ¹ 300 | 210 | 1,590
36-inch piles 501-1,000 strikes (20 min) | 1,000 | 130 | ¹ 300 | ¹ 300 | ¹ 300
36-inch piles 1,001-1,500 strikes (30 min) | 1,310 | 170 | ¹ 300 | ¹ 300 | ¹ 300
48-inch piles 1-500 strikes (10 min) | 400 | 60 | ¹ 300 | ¹ 300 | 140 | 1,360
48-inch piles 501-1,000 strikes (20 min) | 630 | 90 | ¹ 300 | ¹ 300 | 210
48-inch piles 1,001-1,500 strikes (30 min) | 830 | 110 | ¹ 300 | ¹ 300 | 280
DTH Socket ³
30-, 36-inch piles up to 4 hrs | 1,330 | 170 | ¹ 300 | ¹ 300 | ¹ 300 | ² 12,500
30-, 36-inch piles up to 8 hrs | ⁴ 2,000 | 270 | ¹ 300 | ¹ 300 | ¹ 300
48-inch piles up to 4 hrs | ⁴ 2,000 | 320 | ¹ 300 | ¹ 300 | ¹ 300 | ² 12,500
48-inch piles up to 8 hrs | ⁴ 2,000 | 500 | ¹ 300 | ¹ 300 | ¹ 300
DTH Anchor ³
12-inch up to 4 hrs | 150 | 20 | 240 | 130 | 50 | ² 12,500
¹ 300 m (0.3 km) is the maximum realistic expectation for sighting very high-frequency cetaceans, phocids, and otariids.
² Represents the largest Level B Harassment isopleth. Note that land masses truncate the isopleth at 12,500 m.
³ Represents the updated shutdown and monitoring zones for 30-, 36-, and 48-inch DTH sockets and 12-inch DTH anchors based on corrected Level A isopleths (see paragraph (c) above for more information).
⁴ 2,000 m (2 km) is the maximum realistic expectation for sighting large mysticetes.

In summary, we have identified relatively minor errors that, upon correction, do not substantially alter the analysis or our findings. That is, based on the analysis contained in the proposed IHA (90 FR 15957, April 16, 2025) of the likely effects of the specified activity on marine mammals and their habitat, and taking into consideration the implementation of the monitoring and mitigation measures, NMFS finds that the total marine mammal take from the activity will have a negligible impact on all affected marine mammal species or stocks.

National Environmental Policy Act

To comply with the National Environmental Policy Act of 1969 (NEPA; 42 U.S.C. 4321 et seq.) and NOAA Administrative Order (NAO) 216-6A, NMFS must review our proposed action (i.e., the issuance of an IHA) with respect to potential impacts on the human environment.

This action is consistent with categories of activities identified in Categorical Exclusion B4 (IHAs with no anticipated serious injury or mortality) of the Companion Manual for NAO 216-6A, which do not individually or cumulatively have the potential for significant impacts on the quality of the human environment, and for which we have not identified any extraordinary circumstances that would preclude this categorical exclusion. Accordingly, NMFS has determined that the issuance of this IHA qualifies for categorical exclusion from further NEPA review.

Endangered Species Act

Section 7(a)(2) of the ESA of 1973 (16 U.S.C. 1531 et seq.) requires that each Federal agency ensures that any action it authorizes, funds, or carries out is not likely to jeopardize the continued existence of any endangered or threatened species or result in the destruction or adverse modification of designated critical habitat. To ensure ESA compliance for issuing IHAs, NMFS consults internally whenever we propose to authorize take for endangered or threatened species.

NMFS is authorizing the take of two listed species—the humpback whale (Mexico-North Pacific distinct population segment) and the fin whale, which are listed as threatened and endangered, respectively, under the ESA.

Authorization

Accordingly, consistent with the requirements of section 101(a)(5)(D) of the MMPA, NMFS has issued an IHA to the COK for authorization to take marine mammals incidental to the COK's Berth III Mooring Dolphins Project in Ketchikan, Alaska.

Dated: July 9, 2025.
Kimberly Damon-Randall,
Director, Office of Protected Resources, National Marine Fisheries Service.

[FR Doc. 2025-12999 Filed 7-10-25; 8:45 am]

BILLING CODE 3510-22-P